DEPARTMENT OF AGRICULTURE

Animal and Plant Health Inspection Service

[Docket No. 01-124-1]

Environmental Impact Statement; Genetically Engineered Pink Bollworm

AGENCY: Animal and Plant Health Inspection Service, USDA.

ACTION: Notice of intent.

SUMMARY: We are advising the public that the Animal and Plant Health Inspection Service intends to prepare an environmental impact statement relative to a proposed release into the environment of genetically engineered autocidal pink bollworms as part of an ongoing research effort in the pink bollworm sterile insect program. The environmental impact statement will examine the full range of potential effects the release could have on the environment. We invite the public to comment on what specific issues we should address in the environmental impact statement. Public hearings are planned.

DATES: We will consider all comments that we receive that are postmarked, delivered, or e-mailed by April 5, 2002. We will also consider comments made at public hearings in Riverdale, MD, and Phoenix, AZ. The exact dates, times, and locations for the hearings will be announced in a notice to be published in a future issue of the Federal Register.

ADDRESSES: You may submit comments by postal mail/commercial delivery or by e-mail. If you use postal mail/commercial delivery, please send four copies of your comment (an original and three copies) to: Docket No. 01-124-1, Regulatory Analysis and Development, PPD, APHIS, Station 3C71, 4700 River Road Unit 118, Riverdale, MD 20737-1238. Please state that your comment refers to Docket No. 01-124-1. If you use e-mail, address your comment to regulations@aphis.usda.gov. Your comment must be contained in the body of your message; do not send attached files. Please include your name and address in your message and “Docket No. 01-124-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Ms. Stephanie Stephens, Biological Scientist, Environmental Services, PPD, APHIS, 4700 River Road Unit 152, Riverdale, MD 20737-1234; (301) 734-8565.

SUPPLEMENTARY INFORMATION:

Background

On January 29, 2001, the Animal and Plant Health Inspection Service (APHIS) received an application for a permit from APHIS's Plant Protection Center in Phoenix, AZ, to release genetically engineered pink bollworms (Pectinophora gossypiella) in confined on-site experimentation and field performance tests. The pink bollworms are genetically engineered to express an enhanced green fluorescent protein derived from the jellyfish Aequora victoria, which could aid in the monitoring of sterilized pink bollworms released in APHIS's ongoing pink bollworm sterile insect technique program. Data from these experiments and tests will be used to determine whether the fluorescent marker affects the behavior or performance of the pink bollworm.

On June 21, 2001, APHIS published in the Federal Register (66 FR 33226, Docket No. 01-024-1) a notice of availability of an environmental assessment for the study described above. The environmental assessment considered potential environmental effects that could result from conducting the study. APHIS has considered and responded to all comments received on the environmental assessment, and based on the findings of the environmental assessment, has determined that implementation of the study would not significantly impact the quality of the human environment. On January 11, 2002, APHIS published a notice in the Federal Register (67 FR 1434-1435, Docket No. 01-024-2) announcing the availability of the final environmental assessment and finding of no significant impact relative to the issuance of a permit for the confined field study.

Prior to the next phase of research, the Phoenix Plant Protection Center may apply for a permit for the field release of genetically engineered pink bollworm containing the enhanced green fluorescent protein marker gene and a temperature-sensitive lethal gene. The objective of such a release would be to provide an opportunity for evaluating the use of genetically engineered pink bollworm in an autocidal biological control system for area-wide management of pink bollworm.

APHIS plans to prepare an environmental impact statement (EIS) that examines potential environmental effects associated with the field release of genetically engineered pink bollworm containing the enhanced green fluorescent protein marker gene and a temperature-sensitive lethal gene, and other alternatives.

The EIS would analyze and compare the full range of available alternatives, including existing techniques and technologies (no action), as well as the unconfined release into the environment of genetically engineered pink bollworm as explained above. We invite the public to comment on what issues we should address in the EIS. Issues presently under consideration include:

• Potential genetic transformation affecting the environment;

• Persistence of the genetically modified pink bollworm versus wild-type pink bollworm;

• Physical and biological containment measures for the proposed study;

• Potential gene transfer to other insect species;

• Potential gene transfer to non-insect species;

• Potential impacts on humans, including specific population groups such as minorities, low income populations, and children;

• Potential effects of use of genetically engineered pink bollworm on chemical load in the environment; and

• Risk to non-target plants and animals, including threatened and endangered species.

Interested persons and organizations may also present comments on the scope of the EIS at public hearings to be held in Riverdale, MD, and Phoenix, AZ. The exact dates and times for the hearings and the specific locations of the hearings will be announced in a notice published in a future issue of the Federal Register.

This notice and any further notices or environmental analyses related to this subject are intended to fulfill the requirements of the National Environmental Policy Act of 1969 (NEPA), as amended (42 U.S.C. 4321 et seq.). If we prepare a draft EIS for public review, we will publish a notice announcing its availability in an upcoming issue of the Federal Register. The notice would request comments on the draft EIS.

This notice is issued in accordance with: (1) NEPA, (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 29th day of January 2002.
W. Ron DeHaven,
Acting Administrator, Animal and Plant Health Inspection Service.

[FR Doc. 02-2604 Filed 2-1-02; 8:45 am]

BILLING CODE 3410-34-U